DEPARTMENT OF THE INTERIOR

Bureau of Land Management

[20X.LLUTW01000.L14400000.ET0000, UTU-78501]

Public Land Order No. 7893; Extension of Public Land Order No. 7422, Diamond Fork System, Bonneville Unit of the Central Utah Project; Utah; Correction

AGENCY: Bureau of Land Management, Interior.

ACTION: Notice; correction.

SUMMARY: The Bureau of Land Management published a document in the Federal Register on December 4, 2019, concerning a Public Land Order (PLO) that extended the duration of the withdrawal created by an earlier PLO for an additional 20-year term. The document's subject heading incorrectly stated the new PLO number.

FOR FURTHER INFORMATION CONTACT: Allison Ginn, Assistant Field Manager, BLM Salt Lake Field Office, 801-977-4300, or by email utslmail@blm.gov. Persons who use a telecommunications device for the deaf (TDD) may call the Federal Relay Service (FRS) at 1-800-877-8339 to reach Ms. Ginn. The FRS is available 24 hours a day, 7 days a week, to leave a message or question. You will receive a reply during normal business hours.

Correction

In the Federal Register of December 4, 2019, in FR Doc. 2019-26212, on page 66431, in the first column, correct the subject heading to read:

Public Land Order No. 7893; Extension of Public Land Order No. 7422, Diamond Fork System, Bonneville Unit of the Central Utah Project; Utah

Timothy R. Petty,
Assistant Secretary for Water and Science.

[FR Doc. 2020-15937 Filed 7-22-20; 8:45 am]

BILLING CODE 4310-JA-P